DEPARTMENT OF ENERGY

Federal Energy Regulatory Commission

[Docket No. RP09-117-000]

El Paso Natural Gas Company; Notice of Technical Conference

January 28, 2009.

Take notice that the Commission will convene a technical conference in the above-referenced proceedings on Thursday, February 26, 2009, at 10 a.m. (EDT), in a room to be designated at the offices of the Federal Energy Regulatory Commission (Commission), 888 First Street, NE., Washington, DC 20426.

The Commission's December 30, 2008, Order ¹ in Docket No. RP09-117-000 directed that a technical conference be held to address issues raised by El Paso Natural Gas Company's (El Paso) November 26, 2008, filing of its annual restatement of its Fuel and Lost and Unaccounted-For (L&U) percentages. Commission Staff and interested persons will have the opportunity to discuss all of the issues raised by El Paso's filing including but not limited to the issues raised in the protests. El Paso should be prepared to address all the concerns raised in the protests, and to provide, as necessary, additional support for its filing.

¹ El Paso Natural Gas Company, 125 FERC ¶ 61,372 (2008).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Andrew Knudsen at (202) 502-6527 or e-mail Andrew.Knudsen@ferc.gov.

Kimberly D. Bose,
Secretary.

[FR Doc. E9-2283 Filed 2-3-09; 8:45 am]

BILLING CODE 6717-01-P